Proclamation 8477 of February 1, 2010

American Heart Month, 2010

By the President of the United States of America

A Proclamation

Heart disease is the leading cause of death in the United States. Its victims are women and men, and people of all backgrounds and ethnicities, in all regions of our country. Although heart disease is one of our Nation’s most costly and widespread health problems, it is among the most preventable. During American Heart Month, we rededicate ourselves to fighting this disease by improving our own heart-healthy habits, and by raising awareness in our homes and our communities.

Protecting our families from heart disease requires each of us to take responsibility for our health and that of our children—including exercising regularly, maintaining a healthy diet, avoiding tobacco, and raising our children to spend more time playing outside. Because obesity is a leading risk factor for heart disease, good nutrition and physical activity are crucial for all our families.

This month, we honor the health-care professionals, researchers, and heart health ambassadors who save lives and spare suffering. Every day, these dedicated individuals put themselves on the front lines of our fight against heart disease. To better equip them, my Administration is investing in cutting-edge research, such as a large DNA sequencing study funded by the National Institutes of Health which could unlock earlier treatment options for high-risk individuals.

The National Heart, Lung, and Blood Institute is sponsoring The Heart Truth campaign, which reminds women of their risk for heart disease and empowers them to reduce it. On Friday, February 5, Michelle and I encourage all Americans to recognize the campaign’s National Wear Red Day by wearing red or the campaign’s Red Dress Pin to support women’s heart disease awareness and remind all women about their risk for heart disease.

In acknowledgement of the importance of the ongoing fight against cardiovascular disease, the Congress, by Joint Resolution approved December 30, 1963, as amended (77 Stat. 843; 36 U.S.C. 101), has requested that the President issue an annual proclamation designating February as “American Heart Month.”

NOW, THEREFORE, I, BARACK OBAMA, President of the United States of America, do hereby proclaim February 2010 as American Heart Month, and I invite all Americans to participate in National Wear Red Day on February 5, 2010. I also invite the Governors of the States, the Commonwealth of Puerto Rico, officials of other areas subject to the jurisdiction of the United States, and the American people to join me in recognizing and reaffirming our commitment to fighting cardiovascular disease.

IN WITNESS WHEREOF, I have hereunto set my hand this first day of February, in the year of our Lord two thousand ten, and of the Independence of the United States of America the two hundred and thirty-fourth.

[FR Doc. 2010-2743

Filed 2-4-10; 11:15 am]

Billing code 3195-W0-P